OFFICE OF PERSONNEL MANAGEMENT

Proposed Collection: Comment Request for Review of a Revised Information Collection: OPM Form 1644 Child Care Provider Information for the Child Care Subsidy Program for Federal Employees OMB No. 3206-0240

AGENCY: Office of Personnel Management.

ACTION: Notice.

SUMMARY: In accordance with the Paperwork Reduction Act of 1995 (Pub. L. 104-13, May 22, 1995), this notice announces the Office of Personnel Management (OPM) intends to submit to the Office of Management and Budget (OMB) a request for review of a revised information collection. Approval for the OPM Form 1644, Child Care Provider Information for the Child Care Subsidy Program for Federal Employees, is used to verify that child care providers are licensed or regulated by local or State authorities, as appropriate. Section 630 of Public Law 107-67, passed by Congress on November 12, 2001, permits Federal agencies to use appropriated funds to help their lower-income employees with their costs for child care provided by a contractor licensed or regulated by local or State authorities, as appropriate. Therefore, agencies need to verify that child care providers to whom they make disbursements in the form of child care subsidies meet the statutory requirement.

Approximately 3500 OPM 1644 forms will be completed annually. We estimate it will take 10 minutes to complete the OPM Form 1644. The annual estimated burden is 333.3 hours.

Comments are particularly invited on:

• Whether this information is necessary for the proper performance of functions of OPM, and whether it will have practical utility;

• Whether our estimates of the public burden of this collection of information are accurate, and based on valid assumptions and methodology; and

• Ways in which we can minimize the burden of the collection of information on those who are to respond, through the use of appropriate technological collection techniques or other forms of information technology.

For copies of this proposal, contact Mary Beth Smith-Toomey on (202) 606-8358, FAX (202) 418-3251 or e-mail to mbtoomey@opm.gov. Please be sure to include a mailing address with your request.

DATES: Comments on this proposal should be received within 60 calendar days from the date of this publication.

ADDRESSES: Send or deliver comments to: Marie L'Etoile, Group Manager, Work/Life Group, U.S. Office of Personnel Management, 1900 E Street, NW., Washington, DC 20415.

Office of Personnel Management.
Howard C. Weizmann,
Deputy Director.

[FR Doc. E8-5863 Filed 3-21-08; 8:45 am]

BILLING CODE 6325-39-P